ENVIRONMENTAL PROTECTION AGENCY

[FRL-7156-4]

Agency Information Collection Activities: Proposed Collection; Comment Request; National Emission Standards for Hazardous Air Pollutants (NESHAPs): Radionuclides

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): National Emission Standards for Hazardous Air Pollutants (NESHAPs): Radionuclides. The EPA ICR Number is 1100.11, and the OMB control number is 2060-0191 which is expiring on June 30, 2002. Before submitting the ICR to OMB for review and approval, EPA is soliciting comments on specific aspects of the proposed information collection as described below.

DATES: Comments must be submitted on or before May 10, 2002.

ADDRESSES: Office of Radiation and Indoor Air, Radiation Protection Division, Center for Waste Management, Environmental Protection Agency, 6608J, 1200 Pennsylvania Avenue, NW., Washington, DC 20460. Copies of the ICR may be obtained from Eleanor Thornton-Jones at the U.S. Environmental Protection Agency, Center for Waste Management, Radiation Protection Division, Office of Radiation and Indoor Air, 1200 Pennsylvania Avenue, NW., Washington, DC 20460-0001; Mail code: 6608J or by e-mail: thornton.eleanord@epa.gov or by phone (202) 564-9773.

FOR FURTHER INFORMATION CONTACT: Eleanor Thornton-Jones, telephone: (202) 564-9773, fax: (202) 565-2065, e-mail: thornton.eleanord@epa.gov.

SUPPLEMENTARY INFORMATION: Affected Entities: Entities affected by this action are those which own or operate Department of Energy (DOE) facilities, elemental phosphorus plants, Non-DOE federal facilities and phosphogypsum stacks, underground uranium mines and uranium mill tailings piles.

Title: National Emission Standards for Hazardous Air Pollutants: Radionuclides, OMB No. 2060-0191, expiring 6/30/02.

Abstract: On December 15, 1989 pursuant to section 112 of the Clean Air Act as amended in 1977 (42 U.S.C. 1857), EPA promulgated NESHAPs to control radionuclide emissions from several source categories. The regulations were published in 54 FR 51653, and are codified at 40 CFR part 61, subparts B, H, I, K, R, T, and W. Due to petitions for reconsideration, EPA rescinded subpart T (July 15, 1994, 59 FR 36280) as it applies to owners and operators of uranium mill tailings disposal sites licensed by the Nuclear Regulatory Commission (NRC) or an affected Agreement State.

Currently, EPA has prepared a final rule amending subparts H and I; National Emission Standards for Emissions of Radionuclides Other Than Radon from Department of Energy Facilities and the National Emission Standards for Radionuclide Emissions from Federal Facilities Other Than Nuclear Regulatory Commission Licensees and Not Covered by Subpart H. (We are awaiting the Administrator's signature and expect this final rule amendment to be published in the Federal Register by the end of March 2002.) This amendment is a technical update to ensure that the best available science is being used to monitor radionuclide emissions from DOE and other federal facilities. Subparts H and I require emission sampling, monitoring and calculations to identify compliance with the standard. As applicable, subpart H and subpart I require sampling and monitoring of radionuclide air emissions in accordance with the guidance presented in the American National Standard Institute's (ANSI) Guide to Sampling Airborne Radioactive Materials in Nuclear Facilities, ANSI N13.1-1969. In 1999, this ANSI standard was revised and replaced by the new ANSI/HPS N13.1-1999 standard, entitled “Sampling and Monitoring Releases of Airborne Radioactive Substances from the Stacks and Ducts of Nuclear Facilities.” The standard for both subparts H and I requires that emissions of radionuclides to the ambient air shall not exceed those amounts that would cause any member of the public to receive in any year an effective dose equivalent of 10 millirem/yr. Also, for non-DOE federal facilities, emissions of iodine shall not exceed an effective dose equivalent of 3 millirem/yr to any member of the public.

The new ANSI standard provides regulated facilities greater flexibility in designing sampling systems while preserving protection of human health and the environment. The DOE facilities and non-DOE federal facilities other than NRC licensees (such as Naval, Department of Defense, and other research and industrial facilities) will be required to adopt these updated sampling methods for any newly constructed or modified source requiring continuous sampling. Existing stacks not undergoing modification will not be required to upgrade to the new sampling standards; however, more rigorous inspections will be required to ensure that all sampling systems—both new and existing—function as intended.

EPA also has rescinded subpart I as it applies to NRC-licensed facilities, that became effective on December 30, 1996 (61 FR 68971). EPA's decision to rescind subpart I was based on NRC's promulgation of the constraint rule, 10 CFR part 20 (61 FR 65120, December 10, 1996), requiring licensees to establish a dose constraint for air emissions of radionuclides of 10 mrem/year total effective dose equivalent to members of the public. A 1992 survey conducted by EPA and data collected during the implementation of subpart I found no facility exceeding EPA's 10 mrem/yr effective dose equivalent standard. The existing subpart I of the radionuclide NESHAPs now only applies to non-DOE federal facilities not licensed by NRC.

Information is being collected pursuant to Federal regulation 40 CFR part 61. The pertinent sections of the regulation for reporting and record keeping are listed below for each source category:

Department of Energy Facilities—Sections 61.93, 61.94, 61.95

Elemental Phosphorous—Sections 61.123, 61.124, 61.126

Non-DOE Federal Facilities—Sections 61.103, 61.104, 61.105, 61.107

Phosphogypsum Stacks—Sections 61.203, 61.206, 61.207, 61.208, 61.209

Underground Uranium Mines—Sections 61.24, 61.25

Uranium Mill Tailings Piles—Sections 61.223, 61.224, 61.253, 61.254, 61.255,

Data and information collected is used by EPA to ensure that public health continues to be protected from the hazards of airborne radionuclides by compliance with NESHAPs. If the information were not collected, it is unlikely that potential violations of the standards would be identified and corrective action would be initiated to bring the facilities back into compliance. Compliance is demonstrated through emission testing and/or dose calculation. Results are submitted to EPA annually for verification of compliance and maintained for a period of 5 years. An agency may not conduct or sponsor, and a person is not required to respond to a collection of information unless it displays a currently valid OMB control number. The OMB control numbers for EPA's regulations are listed in 40 CFR part 9, and 48 CFR Chapter 15.

The EPA would like to solicit comments to:

(i) Evaluate whether the proposed collection of information is necessary for the proper performance of the functions of the agency, including whether the information will have practical utility;

(ii) Evaluate the accuracy of the agency's estimate of the burden of the proposed collection of information;

(iii) Enhance the quality, utility, and clarity of the information to be collected; and

(iv) Minimize the burden of the collection of information on those who are to respond, including through the use of appropriate automated collection techniques or other forms of information technology, e.g., permitting electronic submission of responses.

Burden Statement: Non-DOE Federal Facilities—Facilities may use written procedures or the COMPLY computer program for demonstrating compliance. These procedures and the COMPLY program were designed to reduce the burden on smaller facilities for determining compliance. The activities of the various respondents consist of reading and understanding the regulatory provisions and compliance procedures, identifying and listing input data, performing computer runs, preparing a report, and storing and maintaining data.

The estimated burden for each respondent is 32 hours per response. This estimate is based on experience gained in preparing radionuclide NESHAPs enforcement and compliance guidance material and in demonstrating the use of EPA's COMPLY computer program to the uninitiated.

40 CFR 61 Facilities—The estimates of this ICR renewal includes DOE facilities, elemental phosphorous plants, non-DOE federal facilities other than NRC licensees (such as Naval, Department of Defense, and other research and industrial facilities), phosphogypsum stacks, underground uranium mines and uranium mill tailings piles. Owners and operators of each facility must monitor and track emissions and calculate the highest effective dose equivalent. It is assumed that all facilities will perform emission testing so that EPA can ensure that the regulated facilities are in compliance with the standard, can identify violators, and prescribe corrective action to bring the facilities back into compliance. The DOE facilities and non-DOE federal facilities other than NRC licensees will be required to adopt the updated ANSI standard for sampling methods for any newly constructed or modified source requiring continuous sampling. Existing stacks not undergoing modification will not be required to upgrade to the new sampling standards; but will require more rigorous inspections to ensure that all sampling systems; both new and existing will function as intended. Activities consist of reading and understanding the regulatory provisions and compliance procedures, preparing a test plan, performing testing, performing data analysis, preparing a report, and storing and maintaining data.

Respondent | Number of Facilities
Department of Energy | 40
Elemental Phosphorous | 2
Non-DOE not licensed by NRC | 20
Phosphogypsum Stacks | 35
Underground Uranium Mines | 7
Uranium Mill Tailings Piles (Subparts T and W) | 13
Total | 122

It is estimated that 122 facilities would be required to report emissions and/or effective dose equivalent annually and retain supporting records for five years. The total record keeping and reporting burden hours is 288 hours times 122 respondents = 35,136 hours. The estimated annualized capital/start up costs are: $45,000 and the annual operation and maintenance costs are $1,581,120.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information.

Dated: March 5, 2002.
Bonnie Gitlin,
Acting Director, Radiation Protection Division, Office of Radiation and Indoor Air.

[FR Doc. 02-5745 Filed 3-8-02; 8:45 am]

BILLING CODE 6560-50-P